DEPARTMENT OF VETERANS AFFAIRS

Fund Availability Under the VA Homeless Providers Grant and Per Diem Program

AGENCY: Department of Veterans Affairs.

ACTION: Notice.

SUMMARY: The Department of Veterans Affairs (VA) is announcing the availability of funds for applications for assistance under the technical assistance grant component of VA's Homeless Providers Grant and Per Diem Program. This notice contains information concerning the program, application process, and amount of funding available.

DATES: An original completed and collated grant application (plus two completed collated copies) for assistance under the VA's Homeless Providers Grant and Per Diem Program must be received in the Grant and Per Diem Field Office, by 4 p.m. Eastern Time on June 4, 2003. Applications may not be sent by facsimile (FAX). In the interest of fairness to all competing applicants, this deadline is firm as to date and hour, and VA will treat as ineligible for consideration any application that is received after the deadline. Applicants should take this practice into account and make early submission of their material to avoid any risk of loss of eligibility brought about by unanticipated delays or other delivery-related problems.

For a Copy of the Application Package: Download directly from VA's Grant and Per Diem Program Web page at: http://www.va.gov/homeless/page.cfm?pg=3 or call the Grant and Per Diem Program at (toll-free) 1-877-332-0334. For a document relating to the VA Homeless Providers Grant and Per Diem Program, see the interim final rule codified at title 38 Code of Federal Regulations (CFR) part 61.0.

Submission of Application: An original completed and collated grant application (plus two copies) must be submitted to the following address: VA Homeless Providers Grant and Per Diem Field Office, 10770 N. 46th Street, Suite C-100, Tampa, FL, 33617. Applications must be received in the Grant and Per Diem Field office by the application deadline. Applications must arrive as a complete package. Materials arriving separately will not be included in the application package for consideration and may result in the application being rejected or not funded.

FOR FURTHER INFORMATION CONTACT: Guy Liedke, VA Homeless Providers Grant and Per Diem Program, Department of Veterans Affairs, 10770 North 46th Street, Suite C-100, Tampa, FL 33617; (toll-free) 1-877-332-0334.

SUPPLEMENTARY INFORMATION: This notice announces the availability of funds for assistance under VA's Homeless Providers Grant and Per Diem Program for eligible non-profit entities with expertise in preparing grant applications relating to the provision of assistance for homeless veterans to: Provide technical assistance to those non-profit community-based groups with experience in providing assistance to homeless veterans in order to help such groups apply for grants under the interim final rule, published in the Federal Register, March 19, 2003, or to apply for other grants from any source for addressing the problems of homeless veterans.

Pub. L. 107-95, the Homeless Veterans Comprehensive Assistance Act of 2001, authorizes this program. Funding applied for under this notice may be used for: (a) Group or individual seminars providing general instructions concerning grant applications; (b) Group or individual seminars providing instructions for applying for a specific grant; or (c) Group or individual instruction for preparing analyses to be included in a grant application. Seminars (course of instruction) may be delivered in electronic, face-to-face, and correspondence methodologies (e.g., Internet based training, video teleconferencing, computer media such as CD or disk).

Entities that are interested in providing technical assistance should be aware that historically the Grant and Per Diem Program office receives over 1,200 nationwide inquiries per notice of fund availability from prospective applicants. It is estimated that an additional 1,000 inquiries are received at nationwide VA Medical Center Homeless Programs. From these inquiries, VA has seen an increase in the number of applicants each year. Approximately 100 to 300 applications per funding round have been received in past responses to Notices of Fund Availability (NOFAs) under VA's Homeless Providers Grant and Per Diem Program. Those entities applying to provide technical assistance should consider these numbers when establishing their service plans. Grant applicants may not receive assistance to replace funds provided by any State or local government for the same purpose.

It should be noted that VA expects to announce additional Notices of Fund Availability for construction grants and Per Diem Only awards in July or August of 2003. Recipients of technical assistance grant awards should be prepared to offer technical assistance very soon after the technical assistance awards are made so that organizations will have an opportunity to take advantage of technical assistance and training prior to and during the application period for these two additional NOFAs.

Authority: VA's Homeless Providers Grant and Per Diem Program is authorized by Pub. L. 107-95, section 5(a)(1), the Homeless Veterans Comprehensive Assistance Act of 2001 codified at title 38 United States Code (U.S.C.), sections 2011, 2012, 2061, 2064 and has been extended through Fiscal Year 2005. The program is implemented by the interim final rule codified at title 38 CFR Part 61.0. The interim final rule was published in the Federal Register on March 19, 2003. The regulations can be found in their entirety in title 38 CFR 61.0 through 61.82. Funds made available under this notice are subject to the requirements of those regulations.

Allocation: Approximately $750,000 is available for the technical assistance grant component of this program. Funding will be for a period not to exceed 1 year from the date of award.

Funding Priorities: None.

Application Requirements: The specific grant application requirements will be specified in the application package. The package includes all required forms and certifications. Selections will be made based on criteria described in the application. Applicants who are selected will be notified of any additional information needed to confirm or clarify information provided in the application. Applicants will then be notified of the time frame to submit such information. If an applicant is unable to meet any conditions for grant award within the specified time frame, VA reserves the right to not award funds and to use the funds available for other grant and per diem applicants.

Dated: April 30, 2003.
Anthony J. Principi,
Secretary of Veterans Affairs.

[FR Doc. 03-11097 Filed 5-2-03; 8:45 am]

BILLING CODE 8320-01-P